DEPARTMENT OF COMMERCE

International Trade Administration

[A-428-602]

Brass Sheet and Strip from Germany; Preliminary Results of the Sunset Review of Antidumping Duty Order

AGENCY: Import Administration, International Trade Administration, Department of Commerce.

SUMMARY: On April 1, 2005, the Department of Commerce (“the Department”) initiated a sunset review of the antidumping duty order on brass sheet and strip from Germany. On the basis of the notice of intent to participate, adequate substantive responses and rebuttal comments filed on behalf of the domestic and respondent interested parties, the Department is conducting a full sunset review of the antidumping duty order pursuant to section 751(c) of the Tariff Act of 1930, as amended (“the Act”) and section 351.218(e)(2)(i) of the Department's regulations. As a result of this sunset review, the Department preliminarily finds that revocation of the antidumping duty order would likely lead to continuation or recurrence of dumping at the levels listed below in the section entitled “Preliminary Results of Review.”

EFFECTIVE DATE: October 28, 2005.

FOR FURTHER INFORMATION CONTACT: Audrey R. Twyman, Brandon Farlander, or David Goldberger, AD/CVD Operations, Office 1, Import Administration, International Trade Administration, U.S. Department of Commerce, 14th Street & Constitution Avenue, NW., Washington, DC, 20230; telephone: 202-482-3534, 202-482-0182, and 202-482-4136, respectively.

SUPPLEMENTARY INFORMATION:

Background

On April 1, 2005, the Department published its notice of initiation of the second sunset review of the antidumping duty order on brass sheet and strip from Germany, in accordance with section 751(c) of the Act. See Initiation of Five-year (“Sunset”) Reviews, 70 FR 16800 (April 1, 2005) (“Notice of Initiation”).

The Department received Notices of Intent to Participate on behalf of Heyco Metals, Inc., Olin Corporation - Brass Group, Outokumpu American Brass, PMX Industries, Inc., Revere Copper Products, Inc., Scott Brass, International Association of Machinist and Aerospace Workers, United Auto Workers (Local 2367 and Local 1024), and United Steelworkers of America AFL-CIO/CLC (collectively “the domestic interested parties”), within the deadline specified in section 351.218(d)(1)(i) of the Department's regulations (“Sunset Regulations”). The domestic interested parties claimed interested party status under sections 771(9)(C) and (D) of the Act, as manufacturers of a domestic-like product in the United States, and unions whose workers are engaged in the production of a domestic-like product in the United States.

The Department received a complete substantive response to the notice of initiation from the domestic interested parties within the 30-day deadline specified in the Department's regulations under section 351.218(d)(3)(i). The Department received a complete substantive response from respondent interested parties, Wieland-Werke AG (“Wieland”), Prymetall Gmbh & Co. KG (“Prymetall”), and Schwermetall Halbzeugwerk GmbH & Co. KG (“Schwermetall”) (collectively “the respondent interested parties”), within the deadline specified in section 351.218(d)(3)(i) of the Department's regulations.

On May 4, 2005, the Department received a request from domestic interested parties for an extension of the deadline for filing rebuttal comments to the substantive response of the respondent interested parties. Pursuant to section 351.302(b) of the Department's regulations, domestic and respondent parties were granted an extension to file rebuttal comments to the substantive responses until May 13, 2005. On May 17, 2005, the Department received an objection to domestic interested parties' rebuttal comments.

On May 24, 2005, the Department initially determined that respondent interested parties did not account for more than 50 percent of exports by volume of the subject merchandise and, therefore, did not submit an adequate substantive response to the Department's Notice of Initiation. See Memorandum to Ronald Lorentzen, Acting Director, Office of Policy, from Kelly Parkhill entitled, “Adequacy Determination: Sunset Review of the Antidumping Duty Order on Brass Sheet and Strip from Germany,” (May 24, 2005). On June 13, 2005, the Department extended the deadline for comments and rebuttals on its adequacy determination to June 20 and June 27 respectively. On June 10 and 20, 2005, the Department received comments from domestic interested parties concerning the Department's adequacy determination. On June 20, 2005, the Department received comments from respondent interested parties concerning the Department's adequacy determination. On June 27, 2005, the Department received rebuttal comments from domestic interested parties concerning the Department's adequacy determination.

On July 27, 2005, the Department published a notice of extension of time limits for its final results of expedited review until on or about October 18, 2005. See Brass Sheet and Strip from Germany, Brazil, and France: Extension of Final Results of Expedited Sunset Reviews of the Antidumping and Countervailing Duty Orders, 70 FR 43395 (July 27, 2005).

Section 351.218(e)(1)(ii)(A) of the Department's regulations provides that the Secretary normally will conclude that respondent interested parties have provided adequate response to a notice of initiation where the Department receives complete substantive responses from respondent interested parties accounting on average for more than 50 percent, by volume, or value basis, if appropriate, of the total exports of the subject merchandise to the United States over the five calendar years preceding the year of publication of the notice of initiation. On August 12, 2005, the Department reversed its initial adequacy determination and found that the respondent interested parties accounted for more than 50 percent of exports by volume of the subject merchandise from Germany to the United States. See Memorandum to Barbara E. Tillman, Acting Deputy Assistant Secretary for Import Administration, from Susan H. Kuhbach entitled, “Adequacy Determination in Antidumping Duty Sunset Review of Brass Sheet and Strip from Germany,” (August 12, 2005). In accordance with section 351.218(e)(2)(i) of the Department's regulations, the Department determined to conduct a full sunset review of this antidumping duty order.

The final results in the full sunset review of this antidumping duty order are scheduled on or before February 27, 2006.

Scope of the Order

The product covered by this order is brass sheet and strip, other than leaded and tinned. The chemical composition of the covered product is currently defined in the Copper Development Association (“C.D.A.”) 200 Series or the Unified Numbering System (“U.N.S.”) C2000. This order does not cover products with chemical compositions that are defined by anything other than either the C.D.A. or U.N.S. series. In physical dimensions, the product covered by this order has a solid rectangular cross section over 0.0006 inches (0.15 millimeters) through 0.1888 inches (4.8 millimeters) in finished thickness or gauge, regardless of width. Coiled, wound-on-reels (traverse wound), and cut-to-length products are included. The merchandise is currently classified under Harmonized Tariff Schedule of the United States (“HTSUS”) item numbers 7409.21.00 and 7409.29.00. The HTSUS numbers are provided for convenience and customs purposes. The written description of the scope of this order remains dispositive.

Analysis of Comments Received

All issues raised in this sunset review are addressed in the “Issues and Decision Memorandum for the Sunset Review of the Antidumping Duty Order on Brass Sheet and Strip from Germany; Preliminary Results,” from Gary Taverman, Acting Deputy Assistant Secretary for Import Administration, to Joseph A. Spetrini, Acting Assistant Secretary for Import Administration, dated October 18, 2005 (“Decision Memo”), which is hereby adopted by this notice. The issues discussed in the Decision Memo include the likelihood of continuation or recurrence of dumping and the magnitude of the margin likely to prevail if the antidumping duty order were revoked. Parties can find a complete discussion of all issues raised in this sunset review and the corresponding recommendations in this public memo, which is on file in room B-099 of the main Department Building. In addition, a complete version of the Decision Memo can be accessed directly on the Web at http://ia.ita.doc.gov/frn, under the heading “October 2005.” The paper copy and electronic version of the Decision Memo are identical in content.

Preliminary Results of Review

The Department preliminarily determines that revocation of the antidumping duty order on brass sheet and strip from Germany is likely to lead to continuation or recurrence of dumping at the following weighted-average margins:

Manufacturers/Producers/Exporters | Weighted-Average Margin (Percent)
Wieland-Werke AG | 3.81
All Others | 7.30

Any interested party may request a hearing within 30 days of publication of this notice in accordance with 19 CFR 351.310(c). Interested parties may submit case briefs no later than 30 days after the date of publication of this notice, in accordance with 19 CFR 351.309(c)(1)(i). Rebuttal briefs, which must be limited to issues raised in the case briefs, may be filed no later than 5 days after the case briefs, in accordance with 19 CFR 351.309(d)(1). Any hearing, if requested, will be held two days after rebuttal briefs are due, in accordance with 19 CFR 351.310(d)(1). The Department will issue a notice of final results of this sunset review, which will include the results of its analysis of issues raised in any such briefs, no later than February 27, 2006.

This five-year (“sunset”) review and notice are in accordance with sections 751(c), 752,and 777(i)(1) of the Act.

Dated: October 17, 2005.
Joseph A. Spetrini,
Acting Assistant Secretary for Import Administration.

[FR Doc. E5-5987 Filed 10-27-05; 8:45 am]

BILLING CODE 3510-DS-S